GENERAL SERVICES ADMINISTRATION

41 CFR Part 101-5

[FPMR Amendment A-59]

RIN 3090-AH37

Federal Property Management Regulations; Centralized Field Reproduction Services

AGENCY: Office of Governmentwide Policy, GSA.

ACTION: Final rule.

SUMMARY: The General Services Administration (GSA) is amending the Federal Property Management Regulations (FPMR) by removing coverage on centralized field reproduction services.

DATES: Effective Date: December 26, 2002.

FOR FURTHER INFORMATION CONTACT: The Regulatory Secretariat, Room 4035, GS Building, Washington, DC, 20405, (202) 208-7312, for information pertaining to status or publication schedules. For clarification of content, contact Theodore Freed, Printing and Forms Division (CAP), at (202) 501-0492. Please cite FPMR Amendment A-59.

SUPPLEMENTARY INFORMATION:

A. Background

In January of 1998, the Director of the Office of Management and Budget signed a determination letter transferring all GSA reproduction facilities to the Defense Automated Printing Service (DAPS), DOD, thereby transferring the GSA mission of providing reproduction services for all agencies. As a result of this transfer and further review by GSA's Office of Legal Counsel, GSA has concluded that coverage in the Federal Property Management Regulations (FPMR) addressing centralized field duplicating services made available by GSA in Federal buildings should be deleted. Therefore, the contents of FPMR 101-5.2 (41 CFR 101-5.2), Centralized Field Reproduction Services, is being removed and reserved. If, in the future, GSA issues regulations regarding centralized field reproduction services, they will be issued in the Federal Management Regulation (FMR). The FMR replaces the FPMR and is written in plain language to provide agencies with updated regulatory material that is easy to read and understand.

B. Executive Order 12866

GSA has determined that this final rule is not a significant rule for the purposes of Executive Order 12866 dated September 30, 1993.

C. Regulatory Flexibility Act

A Regulatory Flexibility Analysis is not required under the Regulatory Flexibility Act, 5 U.S.C. 601, et seq., because there is no requirement that this final rule be published in the Federal Register for notice and comment.

D. Paperwork Reduction Act

The Paperwork Reduction Act does not apply because this final rule does not impose recordkeeping or information collection requirements, or the collection of information from offerors, contractors, or members of the public which require the approval of the Office of Management and Budget (OMB) under 44 U.S.C. 3501, et seq.

E. Small Business Regulatory Enforcement Fairness Act

This final rule is exempt from Congressional review prescribed under 5 U.S.C. 801 since it relates solely to agency management and personnel.

List of Subjects in 41 CFR Part 101-5

Federal buildings and facilities, Government property management, Health care.

Dated: November 4, 2002.
Stephen A. Perry,
Administrator of General Services.

For the reasons set forth in the preamble, GSA amends 41 CFR part 101-5 as follows:

CHAPTER 101 [AMENDED]

PART 101-5—CENTRALIZED SERVICES IN FEDERAL BUILDINGS AND COMPLEXES

1. The authority citation for 41 CFR part 101-5 continues to read as follows:

Authority: Sec. 205(c), 63 Stat. 390; 40 U.S.C. 486(c).

Subpart 101-5.2 [Removed and Reserved]

2. Remove and reserve subpart 101-5.2.

[FR Doc. 02-32604 Filed 12-24-02; 8:45 am]

BILLING CODE 6820-23-P